FEDERAL COMMUNICATIONS COMMISSION

Notice of Public Information Collection(s) Being Submitted to OMB for Review and Approval

February 2, 2001.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 14, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0779.

Title: Amendment to Part 90 of the Commission's Rules to Provide for Use of the 220-222 MHz Band by the Private Land Mobile Radio Service, PR 89-552.

Form Numbers: FCC 601.

Type of Review: Extension of a currently approved collection.

Respondents: Businesses or other for-profit entities; Not-for-profit institutions; Individuals or households; and State, Local, or Tribal Government.

Number of Respondents: 27,062.

Estimated Time per Response: 8 hours.

Frequency of Response: On occasion reporting requirements; Third party disclosure.

Total Annual Burden: 112,450 hours.

Total Annual Costs: $28,490,000.

Needs and Uses: This information collection includes rules to govern the future operation and licensing of the 220-222 MHz band (220 MHz service). In establishing this licensing plan, the FCC's goal is to establish a flexible regulatory framework that allows for efficient licensing of the 220 MHz service, eliminates unnecessary regulatory burdens, and enhances the competitive potential of the 220 MHz service in the mobile service marketplace. However, as with any licensing and operational plan for radio service, a certain number of regulatory and informational burdens are necessary to verify licensee compliance with FCC rules.

OMB Control Number: 3060-0897.

Title: MDS and ITFS Two-Way Transmissions.

Form Numbers: N/A.

Type of Review: Extension of a currently approved collection.

Respondents: Businesses or other for-profit entities; Not-for-profit institutions; and State, Local, or Tribal Government.

Number of Respondents: 130,888.

Estimated Time per Response: 8 hours.

Frequency of Response: Recordkeeping; On occasion reporting requirements; Third party disclosure.

Total Annual Burden: 223,618 hours.

Total Annual Costs: $5,431,000.

Needs and Uses: This information collection includes rules that collectively form the MDS and ITFS two-way services. The FCC rules for two-way transmissions for MDS and ITFS will allow two-way licensing and provide greater flexibility in the use of the allotted spectrum to licensees. The rules will further eliminate market entry barriers for small entities. The FCC will use this information to ensure that MDS and ITFS applicants, conditional licensees, and licensees have considered properly under the FCC's rules the potential for harmful interference from their facilities.

OMB Control Number: 3060-0914.

Title: Petition, Pursuant to Section 7 of the Act, for a Waiver of the Airborne Cellular Rule, or, in the Alternative, for a Declaratory Ruling.

Form Number: N/A.

Type of Review: Extension of a currently approved collection.

Respondents: Businesses or other for-profit entities; Federal Government; and State, Local, or Tribal Government.

Number of Respondents: 30.

Estimated Time per Response: 8 hours.

Frequency of Response: Recordkeeping; On occasion reporting requirements.

Total Annual Burden: 240 hours.

Total Annual Costs: None.

Needs and Uses: The FCC has reset an Order it adopted on December 24, 1998, that grants conditionally AirCell's waiver request of 47 CFR 22.925. The waiver permits AirCell, Inc. and a number of cellular licensees, which jointly entered into resale agreements with AirCell, Inc., to furnish system capacity for the provision of cellular service on a secondary, conditional basis to airborne terminal units using technology developed by AirCell, Inc. The waiver also gives AirCell the authority to operate a specially designed mobile cellular telecommunications unit for use aboard general aviation aircraft. The AirCell system gives the public greater access to safety-related data and wireless telephone services for general aviation and equips pilots with a transmission facility that can provide a method of receiving real-time information about changing weather conditions, navigation, telemetry, and aircraft operations.

Federal Communications Commission.
Magalie Roman Salas,
Secretary.

[FR Doc. 01-3520 Filed 2-9-01; 8:45 am]

BILLING CODE 6712-01-P